DEPARTMENT OF ENERGY

10 CFR Parts 429 and 430

[Docket No. EERE-2013-BT-TP-0029 and EERE-2011-BT-DET-0072]

RIN 1904-AD44, 1904-AC66, and 1904-AC51

Energy Conservation Program for Consumer Products: Final Coverage Determination; Test Procedures for Miscellaneous Refrigeration Products; Correction

AGENCY: Office of Energy Efficiency and Renewable Energy, Department of Energy.

ACTION: Final rule; correction.

SUMMARY: On July 18, 2016, the U.S. Department of Energy published a final rule establishing a final coverage determination and test procedures for miscellaneous refrigeration products. This correction addresses technical errors in the preamble and regulatory text. Neither the errors nor the corrections in this document affects the substance of the rulemaking or any of the conclusions reached in support of the final rule.

DATES: Effective date: August 17, 2016.

FOR FURTHER INFORMATION CONTACT: Mr. Joseph Hagerman, U.S. Department of Energy, Office of Energy Efficiency and Renewable Energy, Building Technologies Office, Mailstop EE-5B, 1000 Independence Avenue SW., Washington, DC 20585-0121. Telephone: (202) 586-4549. Email: Joseph.Hagerman@ee.doe.gov.

Michael Kido, U.S. Department of Energy, Office of the General Counsel, GC-33, 1000 Independence Avenue SW., Washington, DC 20585-0121. Telephone: (202) 586-8145. Email: Michael.Kido@hq.doe.gov.

SUPPLEMENTARY INFORMATION: The U.S. Department of Energy (DOE) published a final rule in the Federal Register on July 18, 2016 (“the July 18 final rule”), that established a final coverage determination and test procedures for miscellaneous refrigeration products. 81 FR 46767. In that rulemaking, DOE made drafting errors in the preamble and regulatory text. Specifically, DOE inadvertently amended 10 CFR 430.23 to add paragraph (dd) to coolers and combination cooler refrigeration products. That paragraph, however, is already assigned to portable air conditioners. Accordingly, references to paragraph (dd) must be corrected to refer to paragraph (ff). In order to remedy this error, DOE is correcting the preamble on page 46783, section 2., second paragraph where DOE references 10 CFR 430.23(dd). DOE is also correcting amendatory instruction 10.b. on page 46792, and the reference to paragraph (dd) on page 46794. The effective date for this rule is August 17, 2016.

Correction

In final rule FR Doc. 2016-14389, published in the issue of Monday, July 18, 2016, (80 FR 46767), the following corrections are made:

1. On page 46783, first column, second paragraph, 5th line, the existing text “10 CFR 430.23 (dd)” is corrected to read as “10 CFR 430.23 (ff)”.

2. On page 46792, third column, amendatory instruction 10.b. is corrected to read as follows:

§ 430.23 [Corrected]

10. * * *

b. Adding paragraph (ff).

* * * * *

3. On page 46794, third column, second paragraph, “(dd)” is corrected to read as “(ff)”.

Issued in Washington, DC, on July 21, 2016.
Kathleen B. Hogan,
Deputy Assistant Secretary for Energy Efficiency, Energy Efficiency and Renewable Energy.

[FR Doc. 2016-17752 Filed 7-28-16; 8:45 am]

BILLING CODE 6450-01-P